DEPARTMENT OF COMMERCE

National Oceanic and Atmospheric Administration

RIN 0648-XA744

Fisheries of the South Atlantic; South Atlantic Fishery Management Council; Public Meetings

AGENCY: National Marine Fisheries Service (NMFS), National Oceanic and Atmospheric Administration (NOAA), Commerce.

ACTION: Notice of conference call meetings of the South Atlantic Fishery Management Council and the LEAP.

SUMMARY: The Law Enforcement Advisory Panel (LEAP) will meet via conference call on October 20, 2011 to select nominees for a Law Enforcement Office of the Year (LEOY) Award. The Council will meet via conference call on November 2, 2011 to review the LEAP's recommendations and select a deserving law enforcement officer to receive the award. See SUPPLEMENTARY INFORMATION.

DATES: The LEAP conference call will take place on October 20, 2011 from 10 a.m. to 11 a.m. The Council conference call will take place on November 2, 2011 from 10 a.m. to 11 a.m. See SUPPLEMENTARY INFORMATION.

ADDRESSES: The meetings will take place via conference call. For more information contact Kim Iverson (see FOR FURTHER INFORMATION CONTACT).

FOR FURTHER INFORMATION CONTACT: Kim Iverson, Public Information Officer, South Atlantic Fishery Management Council, 4055 Faber Place Drive, Suite 201, N. Charleston, SC, 29405; telephone: (843) 571-4366 or toll free (866) SAFMC-10; fax: (843) 769-4520; email: kim.iverson@safmc.net.

SUPPLEMENTARY INFORMATION: Members of the Law Enforcement Advisory Panel will meet via conference call from 10 a.m. until 11 a.m. on October 20, 2011. The LEAP will review nominations for a Law Enforcement of the Year (LEOY) Award. The distinction is awarded by the Council to recognize an exceptional individual who has demonstrated a distinct pattern of service to enforcing fisheries regulations in the South Atlantic region. Nominees have been provided to the LEAP for their review. During the conference call, the LEAP will select and rank three nominees to recommend to the Council.

Members of the Council will meet via conference call from 10 a.m. to 11 a.m. on November 2, 2011. The Council will review the three nominees provided by the LEAP and select a deserving officer to receive the award. Presentation of the LEOY Award will take place at the December 12-16, 2011 Council meeting in Raleigh, NC.

Special Accommodations

The LEAP conference call is physically accessible to people with disabilities. Requests for auxiliary aids should be directed to the Council office (see ADDRESSES) 3 days prior to the conference call.

Note: The specific end time for each conference call is subject to change.

Dated: September 28, 2011.
Tracey L. Thompson,
Acting Director, Office of Sustainable Fisheries, National Marine Fisheries Service.

[FR Doc. 2011-25418 Filed 9-30-11; 8:45 am]

BILLING CODE 3510-22-P